DEPARTMENT OF HEALTH AND HUMAN SERVICES

National Institutes of Health

Center for Scientific Review; Amended Notice of Meeting

Notice is hereby given of a change in the meeting of the Molecular Genetics A Study Section, October 21, 2013, 08:30 a.m. to October 22, 2013, 01:30 p.m., Renaissance Washington DC, Dupont Circle, 1143 New Hampshire Avenue NW., Washington, DC 20037 which was published in the Federal Register on September 26, 2013, 78 FR 187 Pgs. 59361-59362.

The meeting will start on November 17, 2013 at 8:30 a.m. and end on November 17, 2013 at 7:30 p.m. The meeting location remains the same. The meeting is closed to the public.

Dated: October 25, 2013.
Anna Snouffer,
Deputy Director, Office of Federal Advisory Committee Policy.

[FR Doc. 2013-25773 Filed 10-29-13; 8:45 am]

BILLING CODE 4140-01-P